DEPARTMENT OF ENERGY

Federal Energy Regulatory Commission

[Docket No. RP04-342-000]

Questar Pipeline Company; Notice of Tariff Filing

June 28, 2004.

Take notice that on June 24 2004, Questar Pipeline Company (Questar) tendered for filing as part of its FERC Gas Tariff, First Revised Volume No. 1, the following tariff sheets, to be effective August 1, 2004:

Thirty-First Revised Sheet No. 5

Original Volume No. 3

Thirty-Eighth Revised Sheet No. 8

Questar states that the revised tariff sheets reflect the Gas Research Institute's instructions to discontinue collecting GRI surcharges effective August 1, 2004.

Questar further states that a copy of this filing has been served upon its customers, the Public Service Commission of Utah and the Public Service Commission of Wyoming.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1480 Filed 7-6-04; 8:45 am]

BILLING CODE 6717-01-P